NATIONAL INSTITUTE FOR LITERACY

Notice of Meeting; Correction

SUMMARY: For the notice published in the Federal Register dated February 23, 2001, Volume 66, Number 37, pages 11333-11334, make the following corrections:

On page 11333, under “Date and Time,” the second day of the Board meeting, March 9, 2001, is cancelled. On page 11334, under SUPPLEMENTARY INFORMATION the Advisory Board meeting on March 9, 2001, is cancelled.

FOR FURTHER INFORMATION CONTACT: Shelly Coles, Executive Assistant, National Institute for Literacy, 1775 I Street, NW., Suite 730, Washington, DC 20006. Telephone number (202) 233-2027, email scoles@nifl.gov.

Dated: February 26, 2001.
Carolyn Y. Staley,
Acting Director.

[FR Doc. 01-5032 Filed 3-1-01; 8:45 am]

BILLING CODE 6055-01-U